CORPORATION FOR NATIONAL AND COMMUNITY SERVICE

Proposed Information Collection; Comment Request

AGENCY: Corporation for National and Community Service.

ACTION: Notice.

SUMMARY: The Corporation for National and Community Service hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning a web-based senior service recruitment system, called “Join Senior Service Now” (JASON), that enables Americans ages 55 and over who are interested in volunteering to match their interests and talents with community homeland security and other critical community needs that have been identified by local Senior Corps grant projects. Use of the system is entirely voluntary. This system was deployed in 2002 and can be accessed by the public at the following Web site: www.joinseniorservice.org. The system is also a component of the USA Freedom Corps Volunteer Opportunities Search Engine.

Copies of the information collection requests can be obtained by contacting the office listed in the address section of this notice.

DATES: Written comments must be submitted to the individual and office listed in the ADDRESSES section August 29, 2005.

ADDRESSES: You may submit comments, identified by the title of the information collection activity, by any of the following methods:

(1) By mail sent to: Corporation for National and Community Service, National Senior Service Corps; Attention Ms. Angela Roberts, Associate Director, Room 9305; 1201 New York Avenue, NW., Washington, DC 20525.

(2) By hand delivery or by courier to the Corporation's mailroom at Room 6010 at the mail address given in paragraph (1) above, between 9 a.m. and 4 p.m. Monday through Friday, except Federal holidays.

(3) Electronically through the Corporation's e-mail address system: aroberts@cns.gov.

FOR FURTHER INFORMATION CONTACT: Angela Roberts, (202) 606-5000, ext. 111, or by e-mail at aroberts@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Americans over the age of 55 are a rapidly growing segment of the population, and the 60-plus population will double during the first quarter of this century. Concurrently, older Americans are one of the fastest growing cohorts utilizing the Internet for a myriad of purposes. A logical extension of these facts is that seniors will increasingly turn to the Internet to locate volunteer opportunities.

The Senior Corps' programs enroll Americans ages 55 and over, and more than 1,300 local Foster Grandparent, Senior Companion, and RSVP projects are engaged in ongoing volunteer recruitment. Many local Senior Corps project directors have indicated that a viable and identity-specific presence on the Internet would be beneficial to their recruitment efforts. The majority of Senior Corps projects indicate that they experience difficulties in recruiting, even with the expanding population of eligible participants. A web-based system can help to tap more efficiently into the target population.

Senior Corps volunteers serve with local projects of the RSVP (Retired and Senior Volunteer Program), the Foster Grandparent Program (FGP) and the Senior Companion Program (SCP). Individuals learn about these opportunities through a variety of means, including public service announcements, posters, advertisements, and visits to the Corporation's Web site and Web sites of local projects. These media and others direct interested individuals to the JASON website at www.joinseniorservice.org.

Prospective volunteers have the opportunity to find senior service projects of interest to them in two ways:

(1) The JASON system “Fast Match” feature allows individuals to search for volunteer opportunities by providing their ZIP code and the distance they are willing to travel. They also have the option to narrow their search by selecting one or more areas of service and/or entering one or more key words. They receive a listing of opportunities within the Senior Corps grantee network that match their service, distance, and/or other specifications and preferences.

(2) Prospective volunteers can also register with the system. Registration allows individuals the option of expressing interest in volunteering with senior service projects of their choosing and of sending certain information about themselves to the volunteer recruiters of those projects. To register, individuals enter the following four required data elements into a web-based form: (1) An e-mail address where they can be contacted that also serves as their unique User ID; (2) a password of their choosing that must be correctly entered before allowing access to information; their current age by pre-defined age ranges and categories; and (4) the age at which they began volunteering. Individuals are required to provide their age because different programs have different minimum age requirements.

Demographic information requested helps the Corporation understand the general aggregate profile of demographics of users, in particular, seniors using web-based tools. Descriptive information allow a potential volunteer to tell the project's recruiter any additional information they wish to, as well as to provide the project and the Corporation with information on the effectiveness of various ways of advertising the website. Contact information is collected for the sole purpose of permitting the recruiter from projects to which the registrant has expressed interest to contact the individual about the particular volunteer opportunities they are interested in.

Current Action

The Corporation seeks to renew approval of the JASON system. The revised system will be used in the same manner as the existing system, which is scheduled to expire on November 30, 2005.

Type of Review: Renewal.

Agency: Corporation for National and Community Service.

Title: National Senior Service Corps “Join Senior Service Now” (JASON) web-based recruitment system: www.joinseniorservice.org.

OMB Number: 3045-0078.

Agency Number: None.

Affected Public: Prospective senior volunteers.

Total Respondents: 440,000.

Frequency: At the discretion of respondents.

Average Time Per Response: 0.25 hours for initial response; 0.7 hours for subsequent responses.

Estimated Total Burden Hours: 32,323.

Total Burden Cost (capital/startup): None.

Total Burden Cost (operating/maintenance): None.

Comments submitted in response to this notice will be summarized and/or included in the request for Office of Management and Budget approval of the information collection request; they will also become a matter of public record.

Dated: June 21, 2005.
Tess Scannell,
Director, National Senior Service Corps.

[FR Doc. 05-12674 Filed 6-27-05; 8:45 am]

BILLING CODE 6050-$$-P